DEPARTMENT OF DEFENSE

Office of the Secretary

32 CFR Parts 40, 42, 46, 51, 55, 62, 63, 65, 72, 76, 79, 89, 98, 102, 103, 111, 114, 115, 132, 157, 159, 159a, 171, 186, 188, and 194

Removal of Regulatory Parts

AGENCY: Department of Defense.

ACTION: Final rule.

SUMMARY: The Department of Defense is removing various parts from chapter I, Office of the Secretary of Defense. This administrative action removes obsolete information from the Code of Federal Regulations and notifies readers of the availability of the current DoD documents that contain the information being removed.

DATES: This rule is effective October 25, 2001.

FOR FURTHER INFORMATION CONTACT: L. Bynum or P. Toppings, 703-601-4722.

SUPPLEMENTARY INFORMATION: The chart below identifies the status of the parts being removed. All documents with a current date status may be found as a DoD Directive (D), DoD Instruction (I), or DoD Publication on the Washington Headquarters Services Web site at http://www.dtic.mil/whs/directives.

Part No. | Document No. | Status
40 | Standard of Conduct Cross-Reference | No replacement.
42 | D5200.24 | Canceled by D5505.9, 4/20/95.
46 | D1000.4 | Current date 9/4/96.
51 | D1350.2 | Current date 8/18/95.
55 | D1205.9 | Completely canceled 9/19/97.
62 | D1010.4 | Current date 9/3/97.
63 | D1340.16 | Current date 9/20/97.
65 | D1304.19 | Current date 9/18/93.
72 | I1322.9 | Current date 10/5/95.
76 | D1235.10 | Current date 7/1/95.
79 | D1412.2 | Completely canceled 4/3/97.
89 | D1418.4 | Completely canceled 4/3/97.
98 | D7050.1 | Current date 12/4/98.
102 | D1215.6 | Current date 3/14/97.
103 | D1205.14 | Current date 5/24/74.
111 | I1205.13 | Current date 12/26/95.
114 | I7730.54 | Current date 3/15/99.
115 | I1200.15 | Current date 9/18/97.
132 | D1215.9 | Completely canceled 2/7/97.
157 | I5200.21 | Canceled by I3200.14, 5/13/97.
159 | D5200.1 | Current date 12/13/96.
159a | 5200.1-R | Current date 1/14/97.
171 | None | Rule expired 9/30/2000.
186 | D6055.9 | Current date 7/29/96.
188 | D6050.1 | Completely canceled 9/10/98.
194 | D2000.9 | Current date 1/23/74.

List of Subjects

32 CFR Part 40

Conflict of Interests.

32 CFR Part 42

Law enforcement, National defense, Wiretapping and electronic surveillance.

32 CFR Part 46

Elections, Government employees, Military personnel, Seamen.

32 CFR Part 51

Aged, Civil rights, Education, Equal employment opportunity, Individuals with disabilities, Military personnel, Religious discrimination, Sex discrimination.

32 CFR Part 55

Armed forces reserves, Health care.

32 CFR Part 62

Alcohol abuse, Drug abuse, Government employees, Military personnel.

32 CFR Part 63

Alimony, Child support, Military personnel, Pensions, Reporting and recordkeeping requirements.

32 CFR Part 65

Armed forces, Chaplains.

32 CFR Part 72

Armed forces, Colleges and universities.

32 CFR Part 76

Armed forces reserves.

32 CFR Part 79

Armed forces reserves, Disability benefits, Government employees, Intergovernmental relations, Pensions.

32 CFR Part 89

Government employees, Wages.

32 CFR Part 98

Armed forces, Fraud, Investigations.

32 CFR Part 102

Armed forces reserves.

32 CFR Part 103

Armed forces reserves.

32 CFR Part 111

Armed forces, Elementary and secondary education.

32 CFR Part 114

Archives and records, Armed forces reserves.

32 CFR Part 115

Armed forces reserves.

32 CFR Part 132

Armed forces reserves.

32 CFR Part 157

Classified information.

32 CFR Part 159

Classified information.

32 CFR Part 159a

Classified information.

32 CFR Part 171

Aircraft, Fire prevention.

32 CFR Part 186

Arms and munitions, Civil defense, Hazardous substances, Organization and functions (Government agencies).

32 CFR Part 188

Environmental impact statements.

32 CFR Part 194

Armed forces, Arms and munitions, Defense communications, Foreign relations, International organizations.

PARTS 40, 42, 46, 51, 55, 62, 63, 65, 72, 76, 79, 89, 98, 102, 103, 111, 114, 115, 132, 157, 159, 159a, 171, 186, 188, and 194—[REMOVED]

Accordingly, by the authority of 10 U.S.C. 301, 32 CFR parts 40, 42, 46, 51, 55, 62, 63, 65, 72, 76, 79, 89, 98, 102, 103, 111, 114, 115, 132, 157, 159, 159a, 171, 186, 188, and 194 are removed.

Dated: October 19, 2001.
L.M. Bynum,
Alternate OSD Federal Register Liaison Officer, Department of Defense.

[FR Doc. 01-26845 Filed 10-24-01; 8:45 am]

BILLING CODE 5001-08-M